FEDERAL COMMUNICATIONS COMMISSION

[DA 05-1728]

Notice of Debarment

AGENCY: Federal Communications Commission.

ACTION: Notice.

SUMMARY: The Enforcement Bureau (“Bureau”) debars Mr. Qasim Bokhari (a/k/a Syed Qasim Ali Bokhari, a/k/a Kasim Bokhari from the schools and libraries universal service support mechanism (or “E-Rate program”) for a period of three years.

DATES: Debarment commences on the date Mr. Bokhari receives the debarment letter or July 13, 2005, whichever date come first, for a period of three years.

FOR FURTHER INFORMATION CONTACT: Diana Lee, Federal Communications Commission, Enforcement Bureau, Investigations and Hearings Division, Room 4-C330, 445 12th Street, SW., Washington, DC 20554. Diana Lee may be contacted by phone at (202) 418-0843 or e-mail at diana.lee@fcc.gov.

SUPPLEMENTARY INFORMATION: The Bureau has debarred Mr. Bokhari from the schools and libraries universal service support mechanism for a period of three year pursuant to 47 CFR parts 521 and 47 CFR 0.111(a)(14). The Commission previously suspended Mr. Bokhari from the schools and libraries mechanism, pending debarment proceedings. See 70 FR 9647, February 28, 2005. Attached is the debarment letter, Notice of Debarment, DA 05-1728, which was mailed to Mr. Bokhari and released on June 23, 2005, that in tern attached the suspension letter, Notice of Suspension and of Proposed Debarment, DA 05-422. The complete text of the debarment letter, including attachment 1 the suspension letter, is available for public inspection and copying during regular business hours at the FCC Reference Information Center, Portal II, 445 12th Street, SW., Room CY-A257, Washington, DC 20554, In addition, the complete test is available on the FCC's Web site at http://www.fcc.gov. The text may also be purchased from the Commission's duplicating contractor, Best Copy and Printing, Inc., Portal II, 445 12th Street, SW., Room CY-B420, Washington, DC 20554, telephone (202) 488-5300 or (800) 378-3160, facsimile (202) 488-5563, or via e-mail http://www.bcpiweb.com.

Federal Communications Commission.
William H. Davenport,
Chief, Investigations and Hearings Division, Enforcement Bureau.

The notice of debarment and suspension letters follows:

June 23, 2005

Via Certified Mail, Return Receipt Requested

Mr. Qasim Bokhari (a/k/a Syed Qasim Ali Bokhari, a/k/a Kasim Bokhari), c/o Michael J. Steinle, Esquire, Steinle Law Offices, 2600 N Mayfair Rd-Suite 700, Milwaukee, WI 53226

Re: Notice of Debarment, File No. EB-04-IH-0388

Dear Mr. Qasim Bokhari: Pursuant to section 54.521 of the rules of the Federal Communications Commission (the “Commission”), by this Notice of Debarment you are hereby debarred from the schools and libraries universal service support mechanism (or “E-Rate program”) for a period of three years.¹

¹ See 47 CFR 0.111(a)(14), 54.521.

On February 16, 2005, the Enforcement Bureau (the “Bureau”) sent you a Notice of Suspension and Proposed Debarment (the “Notice of Suspension”).² That Notice of Suspension was published in the Federal Register on February 28, 2005.³ The Notice of Suspension suspended you from the schools and libraries universal service support mechanism and described the basis for your proposed debarment, the applicable debarment procedures, and the effect of debarment.⁴

² Letter from William H. Davenport, Chief, Investigations and Hearings Division, Enforcement Bureau, Federal Communications Commission, to Qasim Bokhari, Notice of Suspension and Proposed Debarment, 20 FCC Rcd 3603 (Inv. & Hearings Div., Enf. Bur. 2005) (Attachment 1).

³ 70 FR 9647 (Feb. 28, 2005).

⁴ See id., 20 FCC Rcd at 3603-06.

Pursuant to the Commission's rules, any opposition to your suspension or its scope or to your proposed debarment or its scope had to be filed with the Commission no later than thirty (30) calendar days from the earlier date of your receipt of the Notice of Suspension or publication of the Notice of Suspension in the Federal Register.⁵ The Commission did not receive any such opposition.

⁵ See 47 CFR 54.521(e)(3) and (4). That date occurred no later than March 30, 2005. See supra note 3.

As discussed in the Notice of Suspension, on or about January 28, 2005, you were convicted of mail fraud and money laundering offenses involving your participation in the E-Rate program. In connection with the mail fraud, you admitted to conspiring and carrying out, with co-conspirators, the following acts: (1) Illegally inducing certain schools to select your consulting company as their E-Rate service provider by promising school officials that their schools would not have to pay the undiscounted share of their costs under the E-Rate program; (2) taking over those schools' role in completing and submitting E-Rate applications, and causing those schools to enter into unnecessary large contracts for infrastructure enhancements; (3) submitting materially false and fraudulent invoices and other documents to the program claiming that the schools have been billed for their undiscounted share and that E-Rate goods and services have been provided; and (4) receiving payment from the E-Rate program for goods and services not rendered.⁶ In connection with the money laundering offense, you admitted to conspiring and carrying out, with co-conspirators, an unlawful scheme to transfer the fraudulently obtained E-Rate payments from the United States to Pakistan through the unknowing services of other individuals designed, in whole or in part, to conceal and disguise the nature, location, source, ownership, and control of these monies.⁷ Such conduct constitutes the basis for your debarment, and your conviction falls within the categories of causes for debarment under § 54.521(c) of the Commission's rules.⁸ For the foregoing reasons, you are hereby debarred for a period of three years from the debarment date, i.e., the earlier date of your receipt of this Notice of Debarment or its publication date in the Federal Register.⁹ Debarment excludes you, for the debarment period, from activities “associated with or related to the schools and libraries support mechanism,” including “the receipt of funds or discounted services through the schools and libraries support mechanism, or consulting with, assisting, or advising applicants or service providers regarding the schools and libraries support mechanism.” ¹⁰

⁶ See Notice of Suspension, 20 FCC Rcd at 3604-05.

⁷ Id. at 3605.

⁸ Id. at 3605; 47 CFR 54.521(c).

⁹ See Notice of Suspension, 20 FCC Rcd at 3605.

¹⁰ See 47 CFR 54.521(a)(1), 54.521(a)(5), 54.521(d); Notice of Suspension, 20 FCC Rcd at 3606.

Sincerely,

William H. Davenport,

Chief; Investigations and Hearings Division, Enforcement Bureau.

cc: Carla Stern, Esq., Assistant United States Attorney, U.S. Department of Justice (E-mail) Kristy Carroll, Esq., USAC (E-mail).

February 16, 2005

Via Certified Mail, Return Receipt Requested

Mr. Qasim Bokhari, (a/k/a Syed Qasim Ali Bokhari, a/k/a Kasim Bokhari), c/o Michael J. Steinle, Esquire, Steinle Law Offices, 2600 N Mayfair Rd—Suite 700, Milwaukee, WI 53226

Re: Notice of Suspension and of Proposed Debarment, File No. EB-04-IH-0388

Dear Mr. Qasim Bokhari: The Federal Communications Commission (“FCC” or “Commission”) has received notice of your January 28, 2005 conviction for mail fraud in violation of 18 U.S.C. 371 and 1341, and for money laundering in violation of the 18 U.S.C. 1956(a) and (h).¹ Consequently, pursuant to 47 CFR 54.521, this letter constitutes official notice of your suspension from the schools and libraries universal service support mechanism (“E-Rate program”). In addition, the Enforcement Bureau (“Bureau”) hereby notifies you that we are commencing debarment proceedings against you.²

¹ United States v. Bokhari et al, Case No. 04-CR-0056-RTR, Plea Agreement (E.D.WI filed and entered October 22, 2004) (“Qasim Bokhari Plea Agreement”); United States v. Qasim Bokhari, Case No. 04-CR-0056-RTR, Judgment (E.D.WI filed January 28, 2005 and entered February 3, 2005).

² 47 CFR 54.521; 47 CFR 0.111(a)(14) (delegating to the Enforcement Bureau authority to resolve universal service suspension and debarment proceedings pursuant to 47 CFR 54.521).

I. Notice of Suspension

Pursuant to § 54.521(a)(4) of the Commission's rules,³ Your conviction requires the Bureau to suspend you from participating in any activities associated with or related to the schools and libraries fund mechanism, including the receipt of funds or discounted services through the schools and libraries fund mechanism, or consulting with, assisting, or advising applicants or service providers regarding the schools and libraries support mechanism.⁴ Your suspension becomes effective upon the earlier of your receipt of this letter or publication of notice in the Federal Register.⁵

³ 47 CFR 54.521(a)(4). See Schools and Libraries Universal Service Support Mechanism, Second Report and Order and Further Notice of Proposed Rulemaking, 18 FCC Rcd 9202, 9225-9227, ¶¶ 67-74 (2003) (“Second Report and Order”).

⁴ Second Report and Order, 18 FCC Rcd at 9225, ¶ 67; 47 U.S.C. 254; 47 CFR 54.502-54.503; 47 CFR 54.521(a)(4).

⁵ Second Report and Order, 18 FCC Rcd at 9226, ¶ 69; 47 CFR 54.521(e)(1).

Suspension is immediate pending the Bureau's final debarment determination. You may contest this suspension or the scope of this suspension by filing arguments in opposition to the suspension, with any relevant documentation. Your request must be received within 30 days after it receives this letter or after notice is published in the Federal Register, whichever comes first.⁶ Such requests, however, will not ordinarily be granted.⁷ The Bureau may reverse or limit the scope of suspension only upon a finding of extraordinary circumstances.⁸ Absent extraordinary circumstances, the Bureau will decide any request for reversal or modification of suspension within 90 days of its receipt of such request.⁹

⁶ Second Report and Order, 18 FCC Rcd at 9226, ¶ 70; 47 CFR 54.521(e)(4).

⁷ Second Report and Order, 18 FCC Rcd at 9226, ¶ 70.

⁸ 47 CFR 54.521(e)(5).

⁹ See Second Report and Order, 18 FCC Rcd at 9226, ¶ 70; 47 CFR 54.521(e)(5), 54.521(f).

II. Notice of Proposed Debarment

A. Reasons for and Cause of Debarment

The Commission has established procedures to prevent persons who have “defrauded the government or engaged in similar acts through activities associated with or related to the schools and libraries support mechanism” from receiving the benefits associated with that program.¹⁰ As provided by the October 22, 2004 plea agreement upon which your conviction is based, you pled guilty to mail fraud and money laundering offenses for activities in connection with your participation, through your Virginia-based consulting company, in the E-Rate program with certain schools in Wisconsin and Illinois. In connection with the mail fraud offenses, you admitted to conspiring and carrying out, with other co-conspirators, the following acts: (1) Illegally inducing certain Wisconsin and Illinois schools to select your consulting company as the schools' E-Rate service provider by promising school officials that their school would not have to pay their undiscounted share of the cost under the E-Rate program; (2) taking over those schools' role in completing and submitting E-Rate applications, and causing those schools to enter into unnecessarily large contracts for infrastructure enhancements under the E-Rate program; (3) submitting materially false and fraudulent invoices and other documents to the E-Rate program claiming that the schools have been billed for their undiscounted share; (4) submitting materially false and fraudulent invoices and other documents to the E-Rate program claiming that certain work had been performed and goods supplied to the schools; and (5) receiving payment from the E-Rate program for goods and services that you fraudulently claimed your consulting company had provided to the schools.¹¹ In connection with the money laundering offenses, you admitted to conspiring and carrying out, with other co-conspirators, an unlawful scheme to transfer the fraudulently obtained E-Rate payments from the United States to Pakistan through the unknowing services of other individuals designed, in whole or in part, to conceal and disguise the nature, location, source, ownership, and control of these monies.¹² These actions constitute the conduct or transactions upon which this debarment proceeding is based.¹³ Moreover, your conviction on the basis of these acts falls within the categories of causes for debarment defined in § 54.521(c) of the Commission's rules.¹⁴ Therefore, pursuant to § 54.521(a)(4) of the Commission's rules, your conviction requires the Bureau to commence debarment proceedings against you.

¹⁰ Second Report and Order, 18 FCC Rcd at 9225, ¶ 66. The Commission's debarment rules define a “person” as “[a]ny individual, group of individuals, corporation, partnership, association, unit of government or legal entity, however, organized.” 47 CFR 54.521(a)(6).

¹¹ See Qasim Bokhari Plea Agreement at 1-5.

¹² See Qasim Bokhari Plea Agreement at 1, 6-9.

¹³ Second Report and Order, 18 FCC Rcd at 9226, ¶ 70; 47 CFR 54.521(e)(2)(i).

¹⁴ “Causes for suspension and debarment are the conviction of or civil judgment for attempt or commission of criminal fraud, theft, embezzlement, forgery, bribery, falsification or destruction of records, making false statements, receiving stolen property, making false claims, obstruction of justice and other fraud or criminal offense arising out of activities associated with or related to the schools and libraries support mechanism.” 47 CFR 54.521(c). Such activities “include the receipt of funds or discounted services through the schools and libraries support mechanism, or consulting with, assisting, or advising applicants or service providers regarding schools and libraries support mechanism described in this section ([47 CFR] § 54.500 et seq.).” 47 CFR 54.521(a)(1).

B. Debarment Procedures

You may contest debarment or the scope of the proposed debarment by filing arguments and any relevant documentation within 30 calendar days of the earlier of the receipt of this letter or of publication in the Federal Register.¹⁵ Absent extraordinary circumstances, the Bureau will debar you.¹⁶ Within 90 days of receipt of any opposition to your suspension and proposed debarment, the Bureau, in the absence of extraordinary circumstances, will provide you with notice of its decision to debar.¹⁷ If the Bureau decides to debar you, its decision will become effective upon the earlier of your receipt of a debarment notice or publication of the decision in the Federal Register.¹⁸

¹⁵ See Second Report and Order, 18 FCC Rcd at 9226, ¶ 70; 47 CFR 54.521(e)(2(i), 54.521(e)(3).

¹⁶ Second Report and Order, 18 FCC Rcd at 9227, ¶ 74.

¹⁷ See id., 18 FCC Rcd at 9226, ¶ 70; 47 CFR 54.521(e)(5).

¹⁸ Id. The Commission may reverse a debarment, or may limit the scope or period of debarment upon a finding of extraordinary circumstances, following the filing of a petition by you or an interested party or upon motion by the Commission. 47 CFR 54.521(f).

C. Effect of Debarment

If and when your debarment becomes effective, you will be prohibited from participating in activities associated with or related to the schools and libraries support mechanism for at least three years from the date of debarment.¹⁹ The Bureau may, if necessary to protect the public interest, extend the debarment period.²⁰

¹⁹ Second Report and Order, 18 FCC Rcd at 9225, ¶ 67; 47 CFR 54.521(d), 54.521(g).

²⁰ Id.

Please direct any responses to the following address: Diana Lee, Federal Communications Commission, Enforcement Bureau, Investigations and Hearings Division, Room 4-C443, 445 12th Street, SW., Washington, DC 20554.

If you submit your response via hand-delivery or non-United States Postal Service delivery (e.g., Federal Express, DHL, etc.), please send the response to Ms. Lee at the following address: Federal Communications Commission, 9300 East Hampton Drive, Capitol Heights, MD 20743.

If you have any questions, please contact Ms. Lee via mail, by telephone at (202) 418-0843 or by e-mail at diana.lee@fcc.gov.

Sincerely yours,

William H. Davenport,

Chief, Investigations and Hearings Division, Enforcement Bureau.

cc: Carla Stern, Assistant United States Attorney, DOJ (E-mail)

Kristy Carroll, Esq., USAC (E-mail)

[FR Doc. 05-13745 Filed 7-12-05; 8:45 am]

BILLING CODE 6712-01-P